DEPARTMENT OF HEALTH AND HUMAN SERVICES

Administration for Children and Families

Submission for OMB Review; Comment Request

Proposed Projects

Title: Electronic Document Exchange (formerly titled, “Child Support Document Exchange System”).

OMB No.: 0970-0435.

Description: The federal Office of Child Support Enforcement's (OCSE) Federal Parent Locator Service offers the Electronic Document Exchange (EDE), formerly titled “Child Support Document Exchange System” (CSDES), application within the OCSE Child Support Portal. The EDE provides a centralized, secure system for authorized users in state child support agencies to electronically exchange child support and spousal support case information with other state child support agencies. Using the EDE benefits state child support agencies by reducing delays, costs, and barriers associated with interstate case processing; increasing state collections; improving document security; standardizing data sharing; increasing state participation; and improving case processing and overall child and spousal support outcomes.

The activities associated with the EDE are authorized by (1) 42 U.S.C. 652(a)(7), which requires OCSE to provide technical assistance to the states to help them establish effective systems for collecting child support and spousal support; (2) 42 U.S.C. 666(c)(1), which requires state child support agencies to have expedited procedures to obtain and promptly share information with other state child support agencies; and (3) 45 CFR 303.7(a)(5), provides the mechanism for state child support agencies to fulfill the federal requirement to transmit requests for child support case information and provide requested information electronically to the greatest extent possible as required by the regulation.

Respondents: State Child Support Agencies.

Annual Burden Estimates
Information collection instrument | Number of respondents | Number of responses per respondent | Average burden hours per response | Total burden hours
Online Data Entry Screens | 38 | 1,328 | * .017 | 855
* (60 seconds).

Estimated Total Annual Burden Hours: 855.

Additional Information: Copies of the proposed collection may be obtained by writing to the Administration for Children and Families, Office of Planning, Research and Evaluation, 330 C Street SW, Washington, DC 20201, Attention Reports Clearance Officer. All requests should be identified by the information collection. Email address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Mary B. Jones,
ACF/OPRE Certifying Officer.

[FR Doc. 2019-10400 Filed 5-17-19; 8:45 am]

BILLING CODE 4184-41-P